DEPARTMENT OF HEALTH AND HUMAN SERVICES

National Institutes of Health

National Institute of Mental Health; Amended Notice of Meeting

Notice is hereby given of a change in the meeting of the Mental Health Services Research Committee, November 7, 2019, 8:00 a.m. to November 7, 2019 p.m., 05:00 p.m., The Dupont Hotel, 1500 New Hampshire Avenue NW, Washington, DC 20036 which was published in the Federal Register on August 201, 2019, 84 FR 43150.

This notice is to amend the date of the Mental Health Service Research Committee (SERV) meeting from November 7, 2019 to November 8, 2019. The meeting times and location remain the same. The meeting is closed to the public.

Dated: August 27, 2019.
Melanie J. Pantoja,
Program Analyst, Office of Federal Advisory Committee Policy.

[FR Doc. 2019-18901 Filed 8-30-19; 8:45 am]

BILLING CODE 4140-01-P